DEPARTMENT OF ENERGY

Federal Energy Regulatory Commission

Combined Notice of Filings #1

Take notice that the Commission received the following electric rate filings:

Docket Numbers: ER17-1329-003.

Applicants: J.P. Morgan Ventures Energy Corporation.

Description: Compliance filing: Update to Market Based Rate Tariff to be effective 11/20/2023.

Filed Date: 7/5/24.

Accession Number: 20240705-5059.

Comment Date: 5 p.m. ET 7/26/24.

Docket Numbers: ER21-2364-003.

Applicants: Albemarle Beach Solar, LLC.

Description: Informational Filing Pursuant to Schedule 2 of the PJM Interconnection, L.L.C. Open Access Transmission Tariff and Requests for Waiver and Expedited Action.

Filed Date: 7/1/24.

Accession Number: 20240701-5470.

Comment Date: 5 p.m. ET 7/22/24.

Docket Numbers: ER24-2463-000.

Applicants: New York Independent System Operator, Inc.

Description: Petition for Prospective Tariff Waiver, for a Shortened Comment Period and for Expedited Action of New York Independent System Operator, Inc.

Filed Date: 7/2/24.

Accession Number: 20240702-5234.

Comment Date: 5 p.m. ET 7/12/24.

Docket Numbers: ER24-2467-000.

Applicants: Spanish Peaks Solar LLC.

Description: Baseline eTariff Filing: Market-Based Rate Application to be effective 9/2/2024.

Filed Date: 7/3/24.

Accession Number: 20240703-5202.

Comment Date: 5 p.m. ET 7/24/24.

Docket Numbers: ER24-2468-000.

Applicants: Entergy Louisiana, LLC, Entergy Mississippi, LLC, Entergy New Orleans, LLC, Entergy Texas, Inc., Entergy Services, LLC, Entergy Arkansas, LLC.

Description: 205(d) Rate Filing: Entergy Louisiana, LLC submits tariff filing per 35.13(a)(2)(iii: MSS-4R Clean Up Filing to be effective 5/14/2024.

Filed Date: 7/3/24.

Accession Number: 20240703-5224.

Comment Date: 5 p.m. ET 7/24/24.

Docket Numbers: ER24-2469-000.

Applicants: Southwest Power Pool, Inc.

Description: 205(d) Rate Filing: 4226 Lazbuddie Wind Energy & SPS Facilities Service Agr to be effective 9/3/2024.

Filed Date: 7/5/24.

Accession Number: 20240705-5039.

Comment Date: 5 p.m. ET 7/26/24.

Docket Numbers: ER24-2470-000.

Applicants: Tenaska Virginia Partners, L.P.

Description: Tenaska Virginia Partners, L.P. submits Request for Limited Tariff Waiver of the 90-day prior notice requirement set forth in Schedule 2 to the PJM Interconnection, L.L.C. Open Access Transmission Tariff.

Filed Date: 7/3/24.

Accession Number: 20240703-5230.

Comment Date: 5 p.m. ET 7/24/24.

Docket Numbers: ER24-2471-000.

Applicants: California Independent System Operator Corporation.

Description: 205(d) Rate Filing: 2024-07-05 Applicant Participating Transmission Owner Agrmt—SunZia to be effective 9/4/2024.

Filed Date: 7/5/24.

Accession Number: 20240705-5117.

Comment Date: 5 p.m. ET 7/26/24.

Docket Numbers: ER24-2472-000.

Applicants: PJM Interconnection, L.L.C.

Description: 205(d) Rate Filing: Original WMPA, Service Agreement No. 7301; AG1-210 to be effective 6/4/2024.

Filed Date: 7/5/24.

Accession Number: 20240705-5123.

Comment Date: 5 p.m. ET 7/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 5, 2024.
Debbie-Anne A. Reese,
Acting Secretary.

[FR Doc. 2024-15297 Filed 7-11-24; 8:45 am]

BILLING CODE 6717-01-P